Title 3—

The President

Proclamation 10505 of December 9, 2022

Human Rights Day and Human Rights Week, 2022

By the President of the United States of America

A Proclamation

On Human Rights Day and during Human Rights Week, we remember and reaffirm the sacred idea that every person is created equal, endowed with inherent dignity and inalienable rights.

This idea was at the core of America's founding. More than 170 years later, following World War II and the Holocaust, this idea brought the world together to enshrine a Universal Declaration of Human Rights. And today, this idea beats in the hearts of millions who march, fight, and sacrifice for the innate liberties we deserve as humans. Around the world—from China to Burma, Afghanistan to Iran, Ethiopia to Ukraine, and beyond—courageous people are standing up to abuses of power, staying strong amid threats to their lives, and speaking out against violations of their fundamental freedoms.

The United States stands fully with these brave women and men fighting for their basic human rights in the face of oppression and injustice—and we always will. That is why we moved to rejoin the United Nations Human Rights Council in 2021 and reassert our moral leadership on the global stage. It is why my Administration is amplifying the voices of religious, racial, and ethnic minorities; women and girls; LGBTQI+ communities; persons with disabilities; and pro-democracy activists and defenders, who are too often targeted by violence or denied equal protection under the law. It is also why we are equipping the brave people of Ukraine to fight for their freedom against Russia's brutal and unprovoked war. We cannot return to a world where might makes right, bigger nations bully their neighbors, and would-be strongmen oppress people with impunity.

Last year, I hosted the first-ever Summit for Democracy and gathered international partners to commit to protecting human rights, bolstering democracy, and countering corruption. I also launched the Presidential Initiative for Democratic Renewal, strengthening our pledge to support free and fair elections, a free and independent media, democratic reformers, and those fighting corruption. I look forward to hosting a second Summit for Democracy in 2023.

Finally, The United States is leading by the power of our example —demonstrating that our commitment to human rights begins here at home. Since taking office, I have ended the Muslim ban, overturned the prohibition on transgender people serving openly in the military, advanced racial equity throughout the Federal Government, strengthened accountable community policing and addressed many of the long-standing inequities in our criminal justice system, expanded accessibility and opportunity for Americans with disabilities, and established a White House Gender Policy Council. I also signed the first major bipartisan gun safety law in nearly 30 years, because every child and adult has the right to be safe at school, at home, and in their community. A positive future will be forged by countries that unleash the full potential of their people and protect their human rights. Today, and every day, I am committed to doing just that.

NOW, THEREFORE, I, JOSEPH R. BIDEN JR., President of the United States of America, by virtue of the authority vested in me by the Constitution and the laws of the United States, do hereby proclaim December 10, 2022, as Human Rights Day and the week beginning December 10, 2022, as Human Rights Week. I call upon the people of the United States to mark these observances with appropriate ceremonies and activities.

IN WITNESS WHEREOF, I have hereunto set my hand this ninth day of December, in the year of our Lord two thousand twenty-two, and of the Independence of the United States of America the two hundred and forty-seventh.

[FR Doc. 2022-27248

Filed 12-13-22; 8:45 am]

Billing code 3395-F3-P